DEPARTMENT OF ENERGY

Federal Energy Regulatory Commission

[ P-12588-000]

Hydraco Power, Inc.; Notice of Application Accepted for Filing; Soliciting Comments, Motions To Intervene and Protests; Paper Scoping and Soliciting Scoping Comments; Establishing a Deadline for Submission of Final Amendments; and Schedule for Processing Application

August 26, 2005.

Take notice that the following hydroelectric application has been filed with the Commission and is available for public inspection.

a. Types of Application: Exemption from License, 5 MW or Less.

b. Project Nos.: P-12588-000.

c. Date filed: May 3, 2005.

d. Applicant: Hydraco Power, Inc.

e. Name of Project: A. H. Smith Dam Project.

f. Location: On the San Marcos River near the town of Martindale, Caldwell County, Texas. The project does not affect Federal lands.

g. Filed Pursuant to: Public Utility Regulatory Policies Act of 1978, 16 U.S.C. §§ 2705, 2708.

h. Applicant Contact: Linda A. Parker, Small Hydro of Texas, Inc., 1298 FM 766, Cuero, Texas 77954. (361) 275-9395.

i. FERC Contact: Monte TerHaar, monte.terhaar@ferc.gov, (202) 502-6035.

j. Deadline for filing comments, motions to intervene, and protests, and deadline for filing scoping comments: 60 days from the issuance date of this notice.

Any comments (original and eight copies) should be addressed to the Secretary, Federal Energy Regulatory Commission, 888 First Street, NE., Room 1-A, Washington, DC 20426. Please affix “A.H. Smith Dam Project No. 12588-000” to all comments. Comments may be filed electronically via Internet in lieu of paper. The Commission strongly encourages electronic filings. See 18 CFR 385.2001(a)(1)(iii) and the instructions on the Commission's Web site (http://www.ferc.gov) under the “eFiling” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. You may also register online at http://www.ferc.gov/docs-filing/esubscription.asp to be notified via e-mail of new filings and issuances related to this or other pending projects. For assistance, contact FERC Online Support.

l. This application has been accepted, but is not ready for environmental analysis at this time.

m. Project Description: Hydraco proposes to restore existing facilities and operate run-of-river, at all times providing flow over the dam. The project would cease generation and pass all flows over the dam when inflows to the impoundment are 100cfs or less.

The proposed project consists of: (1) An existing 10.5-foot-high by 86.5-foot-long concrete dam with a 20-foot-wide concrete apron; (2) an existing 3-foot-wide by 4-foot-high wooden stopgate positioned in the east bank of the dam which regulates flows to the turbines; (3) a 10.62-acre impoundment; (4) an existing 20-foot-wide by 30-foot-long brick powerhouse; (5) an existing generator with installed capacity of 150 kilowatts (kW); (6) an existing 150 kW turbine; (7) a 100-foot-long buried transmission line; and (8) an existing trashrack.

n. A copy of the application is available for review at the Commission in the Public Reference Room or may be viewed on the Commission's Web site at http://www.ferc.gov using the “eLibrary” link. Enter the docket number (P-12588) in the docket number field to access the document. For assistance, contact FERC Online Support at FERCOnlineSupport@ferc.gov or toll-free at 1-866-208-3676, or for TTY, (202) 502-8659. A copy of the application is also available for inspection and reproduction at the addresses in item h above.

All filings must (1) bear in all capital letters the title “PROTEST”, “MOTION TO INTERVENE”, “COMMENTS”, “SCOPING COMMENTS”; (2) set forth in the heading the name of the applicant and the project number of the application to which the filing responds; (3) furnish the name, address, and telephone number of the person submitting the filing; and (4) otherwise comply with the requirements of 18 CFR 385.2001 through 385.2005. Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

o. Scoping Process:

The Commission staff intends to prepare a single Environmental Assessment (EA) for the A. H. Smith Dam Project in accordance with the National Environmental Policy Act. The EA will consider both site-specific and cumulative environmental impacts and reasonable alternatives to the proposed action.

Commission staff does not propose to conduct any on-site scoping meetings at this time. Instead, we will solicit comments, recommendations, information, and alternatives in the Scoping Document (SD).

Copies of the SD outlining the subject areas to be addressed in the EA were distributed to the parties on the Commission's mailing list. Copies of the SD may be viewed on the Web at http://www.ferc.gov using the “eLibrary” link, as indicated in item number n.

p. Procedural schedule: Recipients will have 30 days to provide the Commission with any written comments on the EA. All comments filed with the Commission will be considered in the Order taking final action on the application. However, should substantive comments requiring re-analysis be received on the EA document, we would consider preparing a subsequent EA document. The application will be processed according to the following schedule. Revisions to the schedule will be made as appropriate.

Milestone | Target date
Notice Accepting Application, and Motion to Intervene | August 2005.
Notice of Paper Scoping | August 2005.
Interventions and/or Scoping comments due | October 2005.
Notice Ready for Environmental Analysis/Soliciting Final Comments, Recommendations, Terms and Conditions | October 2005.
Deadline for Agency Recommendations | November 2005.
Notice of the availability of the EA | December 2005.
Public Comments on EA due | January 2006.
Ready for Commission decision on the application | February 2006.

q. Final amendments to the application must be filed with the Commission no later than 60 days from the issuance date of this notice.

Magalie R. Salas,
Secretary.

[FR Doc. E5-4816 Filed 9-1-05; 8:45 am]

BILLING CODE 6717-01-P